DEPARTMENT OF COMMERCE

Foreign-Trade Zones Board

[Order No. 1892]

Reorganization of Foreign-Trade Zone 133 Under Alternative Site Framework; Quad-Cities, Iowa/Illinois

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Quad-City Foreign-Trade Zone, Inc., grantee of Foreign-Trade Zone 133, submitted an application to the Board (FTZ Docket B-63-2012, filed 08/08/2012) for authority to reorganize under the ASF with a service area of Henderson, Henry, Mercer, Rock Island and Warren Counties, Illinois and Cedar, Clinton, Des Moines, Dubuque, Henry, Jackson, Johnson, Jones, Lee, Louisa, Muscatine, Scott and Washington Counties, Iowa, within and adjacent to the Davenport, Iowa-Moline and Rock Island, Illinois Customs and Border Protection port of entry, and FTZ 133's existing Sites 1 through 5 would be categorized as magnet sites;

Whereas, notice inviting public comment was given in the Federal Register (77 FR 48959-48960, 8/15/2012) and the application has been processed pursuant to the FTZ Act and the Board's regulations; and

Whereas, the Board adopts the findings and recommendations of the examiner's report, and finds that the requirements of the FTZ Act and the Board's regulations are satisfied;

Now, therefore, the Board hereby orders:

The application to reorganize FTZ 133 under the ASF is approved, subject to the FTZ Act and the Board's regulations, including Section 400.13, to the Board's standard 2,000-acre activation limit for the zone and to a five-year ASF sunset provision for magnet sites that would terminate authority for Sites 1 through 5 if not activated by March 31, 2018.

Signed at Washington, DC, this 27th day of March 2013.
Paul Piquado,
Assistant Secretary of Commerce for Import Administration, Alternate Chairman, Foreign-Trade Zones Board.
ATTEST:
Andrew McGilvray,
Executive Secretary.

[FR Doc. 2013-07727 Filed 4-2-13; 8:45 am]

BILLING CODE P